ENVIRONMENTAL PROTECTION AGENCY

[FRL-9121-4]

Science Advisory Board Staff Office Notification of a Public Teleconference of the Air Quality Modeling Subcommittee of the Advisory Council on Clean Air Compliance Analysis (Council)

AGENCY: Environmental Protection Agency (EPA).

ACTION: Notice.

SUMMARY: The EPA Science Advisory Board (SAB) Staff Office announces a public teleconference of the Air Quality Modeling Subcommittee (AQMS) of the Advisory Council on Clean Air Compliance Analysis (Council) to finalize its draft advisory report on EPA's air quality modeling work for the Second Section 812 Prospective Benefit-Cost Study of the Clean Air Act.

DATES: The AQMS will conduct a public teleconference on March 15, 2010. The teleconference will begin at 2 p.m. and end by 4 p.m. (Eastern Time).

ADDRESSES: The teleconference will be conducted by telephone only.

FOR FURTHER INFORMATION CONTACT: Any member of the public wishing to obtain general information concerning the public teleconference may contact Ms. Stephanie Sanzone, Designated Federal Officer (DFO), via telephone at (202) 343-9697 or e-mail at sanzone.stephanie@epa.gov. General information about the Council can be found on the EPA Web site at http://www.epa.gov/advisorycouncilcaa.

SUPPLEMENTARY INFORMATION: Pursuant to the Federal Advisory Committee Act (FACA), 5 U.S.C., App. 2, notice is hereby given that the Air Quality Modeling Subcommittee (AQMS) of the Advisory Council on Clean Air Compliance Analysis (Council) will hold a public teleconference to discuss and finalize its draft peer review report on the EPA's air quality modeling and model performance analyses prepared to support the Second Section 812 Benefit-Cost Analysis of the Clean Air Act. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA. The AQMS will provide advice through the Council and will comply with the provisions of FACA and all appropriate SAB Staff Office procedural policies.

Background: Pursuant to Section 812 of the 1990 Clean Air Act Amendments (CAAA), EPA conducts periodic studies to assess benefits and costs of the EPA's regulatory actions under the Clean Air Act. The Council has provided advice on an EPA retrospective study published in 1997 and an EPA prospective study completed in 1999. EPA initiated a second prospective study to evaluate the benefits and costs of EPA Clean Air programs for years 1990-2020. The Council has previously provided advice on the analytical blueprint for this study. EPA's Office of Air and Radiation (OAR) is now nearing completion of the analytical work for the second prospective study. The AQMS met on February 19, 2010 [Federal Register Notice dated January 26, 2010 (75 FR 4070-4071)] to review technical documents pertaining to modeling of air quality for seven emissions scenarios: a 1990 baseline simulation; and simulations for 2000, 2010 and 2020 with and without the CAAA. Materials for the February 19 meeting are available on the Council Web site at http://yosemite.epa.gov/sab/SABPRODUCT.NSF/MeetingCal/962D3C3D233888B085257695005098B5?OpenDocument. The purpose of the March 15 teleconference meeting is to discuss and finalize the AQMS draft advisory report.

Technical Contacts: The Office of Air and Radiation technical contact for the Second Section 812 Benefit-Cost Analysis of the Clean Air Act is Mr. Jim DeMocker at (202) 564-1673 or democker.jim@epa.gov.

Availability of Meeting Materials: The AQMS draft advisory report and meeting agenda for the March 2010 teleconference will be posted to the Council Web site (http://www.epa.gov/advisorycouncilcaa) prior to the meeting. EPA draft documents provided to the AQMS are available at http://www.epa.gov/oar/sect812/prospective2.html.

Procedures for Providing Public Input: Interested members of the public may submit relevant written or oral information for the AQMS to consider on the topics of this advisory activity. Oral Statements: In general, individuals or groups requesting an oral presentation at a teleconference meeting will be limited to three minutes per speaker, with no more than a total of one hour for all speakers. Interested parties should contact Ms. Sanzone at the contact information provided above by March 10, 2010, to be placed on the public speaker list for the March 15, 2010 meeting. Written Statements: Written statements should be received in the SAB Staff Office by March 10, 2010, so that the information can be made available to the AQMS for their consideration prior to the meeting. Written statements should be supplied to Ms. Sanzone in the following formats: one hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Ms. Sanzone at (202) 343-9697, or via e-mail at sanzone.stephanie@epa.gov, preferably at least ten (10) days prior to the meeting, to give EPA as much time as possible to process your request.

Dated: February 24, 2010.
Anthony Maciorowski,
Deputy Director, EPA Science Advisory Board Staff Office.

[FR Doc. 2010-4311 Filed 3-1-10; 8:45 am]

BILLING CODE 6560-50-P